DEPARTMENT OF HOUSING AND URBAN DEVELOPMENT

[Docket No. FR-4734-N-05]

Notice of Submission of Proposed Information Collection to OMB:

AAF Rent Increase Requirement Pursuant to the Housing Appropriations Act of 1994

AGENCY: Office of the Chief Information Officer, HUD.

ACTION: Notice.

SUMMARY: The proposed information collection requirement described below has been submitted to the Office of Management and Budget (OMB) for review, as required by the Paperwork Reduction Act. The Department is soliciting public comments on the subject proposal.

DATES: Comments Due Date: March 25, 2002.

ADDRESSES: Interested persons are invited to submit comments regarding this proposal. Comments should refer to the proposal by name and/or OMB approval number (2502-0507) should be sent to: Joseph F. Lackey, Jr., OMB Desk Officer, Office of Management and Budget, Room 10235, New Executive Office Building, Washington, DC 20503.

FOR FURTHER INFORMATION CONTACT: Wayne Eddins, Reports Management Officer, Q, Department of Housing and Urban Development, 451 Seventh Street, Southwest, Washington, DC 20410; e-mail Wayne_Eddins@HUD.gov; telephone (202) 708-2374. This is not a toll-free number. Copies of the proposed forms and other available documents submitted to OMB may be obtained from Mr. Eddins.

SUPPLEMENTARY INFORMATION: The Department has submitted the proposal for the collection of information, as described below, to OMB for review, as required by the Paperwork Reduction Act (44 U.S.C. Chapter 35). The Notice lists the following information: (1) The title of the information collection proposal; (2) the office of the agency to collect the information; (3) the OMB approval number, if applicable; (4) the description of the need for the information and its proposed use; (5) the agency form number, if applicable; (6) what members of the public will be affected by the proposal; (7) how frequently information submissions will be required; (8) an estimate of the total number of hours needed to prepare the information submission including number of respondents, frequency of response, and hours of response; (9) whether the proposal is new, an extension, reinstatement, or revision of an information collection requirement; and (10) the name and telephone number of an agency official familiar with the proposal and of the OMB Desk Officer for the Department.

This Notice also lists the following information:

Title of Proposal: AAF Rent Increase Requirement Pursuant to the Housing Appropriations Act of 1994.

OMB Approval Number: 2502-0507.

Form Numbers: HUD-92273-S8.

Description of the Need for the Information and its Proposed Use: The mechanism in the Section 8 Housing Assistance Payment contract language permits an analysis on the reasonableness of the Annual Adjustment Factor formula as its applied to each project unit type. To receive a rent increase where rent levels for a specific unit type, in a Substantial Rehabilitation or New Construction contract, exceed the existing fair market rents for that specific unit type, the owner must submit form HUD-92273-S8.

Respondents: Business or other for-profit.

Frequency of Submission: When calculating rent increases.

Reporting Burden:

Number of Respondents: 6,000.

Frequency of response: 1.

Hours per response: 1.5.

Burden hours: 9,000.

Total Estimated Burden Hours: 9,000.

Status: Reinstatement, with change.

Authority: Section 3507 of the Paperwork Reduction Act of 1995, 44 U.S.C. 35, as amended.

Dated: February 13, 2002.
Wayne Eddins,
Departmental Reports Management Officer, Office of the Chief Information Center.

[FR Doc. 02-4097 Filed 2-20-02; 8:45 am]

BILLING CODE 4210-72-M